DEPARTMENT OF THE TREASURY

United States Mint

Notification of American Buffalo Gold Proof Coin and American Eagle Gold Proof and Uncirculated Coin Price Increases

Summary: The United States Mint is adjusting prices for its American Buffalo Gold Proof Coin and American Eagle Gold Proof and Uncirculated Coins.

Pursuant to the authority that 31 U.S.C. 5111(a) and 5112(A)(7-11), & (q) grant the Secretary of the Treasury to mint and issue gold coins, and to prepare and distribute numismatic items, the United States Mint produces and issues 2007 American Buffalo Gold Proof Coins in a one-ounce version and American Eagle Gold Proof and Uncirculated Coins in four denominations with the following weights: One-ounce, one-half ounce, one-quarter ounce, and one-tenth ounce. The United States Mint also produces American Eagle Proof and Uncirculated four-coin sets that contain one coin of each denomination. In accordance with 31 U.S.C. 9701(b)(2)(B), the United States Mint is changing the price of these coins to reflect the increase in value of the underlying precious metal content of the coins—the result of increases in the market price of gold.

Accordingly, effective October 12, 2007, the United States Mint will commence selling the following 2007 American Eagle Proof and Uncirculated Gold Coins and the 2007 American Buffalo Gold Proof Coin according to the following price schedule:

Description | Price
American Buffalo Gold Proof Coins:
One-ounce proof buffalo coin | $899.95
American Eagle Gold Proof Coins:
One-ounce gold coin | Sold Out
One-half ounce gold coin | 459.95
One-quarter ounce gold coin | 239.95
One-tenth ounce gold coin | 116.95
Four-coin gold set | 1,695.95
American Eagle Gold Uncirculated Coins:
One-ounce gold coin | 831.95
One-half ounce gold coin | 424.95
One-quarter ounce gold coin | 219.95
One-tenth ounce gold coin | 99.95
Four-coin gold set | 1,559.95

For Further Information Contact: Gloria C. Eskridge, Associate Director for Sales and Marketing; United States Mint; 801 Ninth Street, NW.; Washington , DC 20220; or call 202-354-7500.

Authority: 31 U.S.C. 5111, 5112 & 9701

Dated: October 15, 2007.
Edmund C. Moy,
Director, United States Mint.

[FR Doc. E7-20616 Filed 10-18-07; 8:45 am]

BILLING CODE 4810-02-P